DEPARTMENT OF HOMELAND SECURITY

Bureau of Customs and Border Protection

Required Advance Electronic Presentation of Cargo Information: Compliance Dates for Rail Carriers

AGENCY: Bureau of Customs and Border Protection, DHS.

ACTION: Announcement of compliance dates.

SUMMARY: This document informs rail carriers when they will be required to transmit advance electronic cargo information to Customs and Border Protection regarding cargo they are bringing into the United States, as mandated by section 343(a) of the Trade Act of 2002 and the implementing regulations. The dates when rail carriers will be required to comply vary depending on the port of entry at which the rail carrier will be arriving in the United States.

DATES: The implementation schedule set forth in the SUPPLEMENTARY INFORMATION discussion specifies three compliance dates, depending on the port of entry at which the rail-crossing is located.

FOR FURTHER INFORMATION CONTACT: For questions concerning Inbound Rail Cargo: Juan Cancio-Bello, Field Operations, (202) 927-3459.

SUPPLEMENTARY INFORMATION:

Background

Section 343(a) of the Trade Act of 2002, as amended (the Act; 19 U.S.C. 2071 note), required that Customs and Border Protection (CBP) promulgate regulations providing for the mandatory collection of electronic cargo information, by way of a CBP-approved electronic data interchange system, before the cargo is brought into or departs the United States by any mode of commercial transportation (sea, air, rail or truck). The cargo information required is that which is reasonably necessary to enable high-risk shipments to be identified for purposes of ensuring cargo safety and security and preventing smuggling pursuant to the laws enforced and administered by CBP.

On December 5, 2003, CBP published in the Federal Register (68 FR 68140) a final rule intended to effectuate the provisions of the Act. In particular, regarding inbound rail cargo, a new § 123.91 (19 CFR 123.91) was added to the CBP Regulations to implement the Act's provisions. Section 123.91 describes the general requirement that for inbound trains requiring a train sheet under § 123.6, that will have commercial cargo aboard, CBP must electronically receive from the rail carrier certain information concerning incoming cargo no later than 2 hours prior to the cargo reaching the first port of arrival in the United States. Specifically, to effect the advance electronic transmission of the required rail cargo information to CBP, the rail carrier must use a CBP-approved electronic data interchange system.

Section 123.91(e) provides that rail carriers must commence the advance electronic transmission to CBP of the required cargo information, 90 days from the date that CBP publishes notice in the Federal Register informing affected 3 carriers that the approved electronic data interchange system is in place and operational at the port of entry where the train will first arrive in the United States.

In this document, CBP is notifying rail carriers how CBP will be implementing the electronic data exchange and when the rail carriers will be required to begin transmitting advance cargo information regarding cargo arriving in the United States. Thirty-one ports of entry have been identified. The implementation schedule will be staggered in three phases.

As discussed above, § 123.91 requires CBP, 90 days prior to mandating advance electronic information at a port of entry, to publish notice in the Federal Register informing affected carriers that the electronic data interchange system is in place and operational. CBP's approved electronic data base is now in place and operational at the twenty-four rail-crossing ports of entry listed in the “Compliance Dates” section of this document, under the caption “First Implementation”. The initial implementation of the electronic data interchange system will occur at these twenty-four ports. Rail carriers, which will first arrive in the United States at these ports, will be required, 90 days from the date of publication of this notice in the Federal Register, to comply with the advance electronic transmission requirements set forth in § 123.91, CBP Regulations.

The second implementation of the electronic data interchange system will occur at the four rail-crossing ports of entry listed in the “Compliance Dates” section of this document, under the caption “Second Implementation”. Rail carriers, which will first arrive in the United States at these ports, will be required, 120 days from the date of publication of this notice in the Federal Register, to comply with the advance electronic transmission requirements set forth in § 123.91.

The third implementation of the electronic data interchange system will occur at the three rail-crossing ports of entry listed in the “Compliance Dates” section of this document, under the caption “Third Implementation”. Rail carriers, which will first arrive in the United States at these ports, will be required, 150 days from the date of publication of this notice in the Federal Register, to comply with the advance electronic transmission requirements set forth in § 123.91.

The schedule for implementing the advance electronic transmission requirements at all thirty-one rail-crossing ports is summarized below. Consistent with the provision in § 123.91 that requires CBP to announce when ports are operational, CBP is announcing that the seven ports listed in the second and third phases of implementation will become operational 90 days prior to the date rail carriers are required to transmit advance electronic information to CBP at those ports.

Compliance Dates

First Implementation

Effective July 12, 2004, rail carriers must commence the advance electronic transmission to CBP of required cargo information for inbound cargo at the following twenty-four ports of entry (corresponding port code and field office location in parenthesis):

(1) Buffalo, NY (0901, Buffalo);

(2) Detroit, MI (3801, Detroit);

(3) Richford, VT (0203, Boston);

(4) Ft. Covington/Trout River, NY (0715, Buffalo);

(5) Norton, VT (0211, Boston);

(6) Highgate Springs, VT (0212, Boston);

(7) Champlain-Rouses Point, NY (0712, Buffalo);

(8) Brownsville, TX (2301, Laredo);

(9) Eagle Pass, TX (2303, Laredo);

(10) Laredo, TX (2304, Laredo);

(11) El Paso, TX (2402, El Paso);

(12) Calexico, CA (2503, San Diego);

(13) Nogales, AZ (2604, Tucson);

(14) Blaine, WA (3004, Seattle/Tacoma);

(15) Sumas, WA (3009, Seattle/Tacoma);

(16) Eastport, ID (3302, Seattle/Tacoma);

(17) Sweetgrass, MT (3310, Seattle/Tacoma);

(18) Noyes, MN (3402, Seattle/Tacoma);

(19) Portal, ND (3403, Seattle/Tacoma);

(20) Frontier/Boundary, WA (3015, Seattle/Tacoma);

(21) Laurier, WA (3016, Seattle/Tacoma);

(22) International Falls, MN (3604, Chicago);

(23) Port Huron, MI (3802, Detroit);

(24) Sault Ste. Marie, MI (3803, Detroit).

Second Implementation

Effective August 10, 2004, rail carriers must commence the advance electronic transmission to CBP of required cargo information for inbound cargo at the following four ports of entry:

(25) Jackman, ME (0104, Boston);

(26) Van Buren, ME (0108, Boston);

(27) Vanceboro, ME (0105, Boston);

(28) Calais, ME (0115, Boston).

Third Implementation

Effective September 9, 2004, rail carriers must commence the advance electronic transmission to CBP of required cargo information for inbound cargo at the following three ports of entry:

(29) Tecate, CA (2505, San Diego);

(30) Otay Mesa, CA (2506, San Diego);

(31) Presidio, TX (2403, El Paso).

Dated: April 6, 2004.
Robert C. Bonner,
Commissioner, Bureau of Customs and Border Protection.

[FR Doc. 04-8199 Filed 4-9-04; 8:45 am]

BILLING CODE 4820-02-P